DEPARTMENT OF JUSTICE

[OMB Number 1125-0018]

Agency Information Collection Activities; Proposed eCollection eComments Requested; Revision of a Previously Approved Collection; FOIAXpress/FOIA Public Access Link

AGENCY: Executive Office for Immigration Review, Department of Justice.

ACTION: 60-Day notice.

SUMMARY: The Executive Office for Immigration Review (EOIR), Department of Justice (DOJ), will be submitting the following information collection request to the Office of Management and Budget (OMB) for review and approval in accordance with the Paperwork Reduction Act of 1995.

DATES: Comments are encouraged and will be accepted for 60 days until April 9, 2024.

FOR FURTHER INFORMATION CONTACT: If you have additional comments especially on the estimated public burden or associated response time, suggestions, or need a copy of the proposed information collection instrument with instructions or additional information, please contact Raechel Horowitz, Chief, Immigration Law Division, Office of Policy, Executive Office for Immigration Review, 5107 Leesburg Pike, Suite 2500, Falls Church, VA 22041, telephone: (703) 305-0473, Raechel.Horowitz@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This information collection is optional and voluntary. FOIAXpress is a software program that provides the EOIR Freedom of Information Act (FOIA) Program with a single, unified application for managing the entire lifecycle of FOIA requests and appeals. The Public Access Link (PAL) is a secure web-based application that provides an online platform for the public to file a FOIA request with EOIR. The PAL is integrated directly with FOIAXpress and offers a centralized location for EOIR to receive online FOIA requests, deliver responsive records, communicate with requesters, collect fees, if applicable, and provide access to released documents in a public reading room in accordance with agency proactive disclosure guidelines.

EOIR has developed several changes to the PAL platform to improve the Agency's FOIA request and response process and to reduce the burden on members of the public that submit FOIA requests to EOIR. These developments include the following substantive changes: modifying the request form to display only those data fields relevant to the type of FOIA request selected by the requestor; changing the date range field from voluntary to mandatory; prompting an individual that requests a Record of Proceeding (ROP) to provide on a voluntary basis the charging document date and a record subject's alias, parents' names, port and date of entry, and place and date of proceeding; and removing data fields that EOIR determined were no longer necessary for the Agency to fulfill a FOIA request. In addition, EOIR has identified the following non-substantive changes: modifying the appearance and formatting of the PAL request form; updating links to web pages and resources embedded throughout the form; revising existing form instructions for clarity; and reorganizing some data fields under different sections of the PAL form. EOIR intends these developments to reduce the public's burden in completing the PAL form and to improve the Agency's FOIA request and response process, and the public's experience with that process. These enhancements include: assisting requestors in making the most appropriate selection for the type of FOIA request; enhancing the logical direction with which a requestor completes the form; and tailoring the information solicited from the requestor to generate more precise requests, thereby reducing processing time.

Overview of This Information Collection

1. Type of Information Collection: Revision of a previously approved collection.

2. The Title of the Form/Collection: FOIAXpress/FOIA Public Access Link.

3. The agency form number, if any, and the applicable component of the Department sponsoring the collection: None.

4. Affected public who will be asked or required to respond, as well as the obligation to respond: Individuals and households. The obligation to respond is voluntary.

5. An estimate of the total number of respondents and the amount of time estimated for an average respondent to respond: It is estimated that 24,804 respondents will complete each form within approximately 3 minutes each.

6. An estimate of the total annual burden (in hours) associated with the collection: The estimated total annual burden hours for this collection is 1,240 annual burden hours.

7. An estimate of the total annual cost burden associated with the collection, if applicable: $0.

Total Burden Hours
Activity | Number of respondents | Frequency | Total annual responses | Time per response (min) | Total annual burden (hours)
Completing the form (individuals) | 24,804 | 1/annually | 24,804 | 3 | 1,240

If additional information is required contact: Darwin Arceo, Department Clearance Officer, United States Department of Justice, Justice Management Division, Policy and Planning Staff, Two Constitution Square, 145 N Street NE, 4W-218, Washington, DC.

Dated: February 5, 2024.
Darwin Arceo,
Department Clearance Officer for PRA, U.S. Department of Justice.

[FR Doc. 2024-02632 Filed 2-8-24; 8:45 am]

BILLING CODE 4410-30-P